DEPARTMENT OF LABOR

Occupational Safety and Health Administration

[Docket No. OSHA-2010-0018]

Asbestos in General Industries Standard; Extension of the Office of Management and Budget's (OMB) Approval of Information Collection (Paperwork) Requirements; Correction

AGENCY: Occupational Safety and Health Administration (OSHA), Labor.

ACTION: Notice; correction.

SUMMARY: The Occupational Safety and Health Administration (OSHA) published a document in the Federal Register on April 3, 2023 soliciting public comments concerning the proposal to extend the Office of Management and Budget's (OMB) approval of the information collection requirements specified in the regulation on Asbestos in General Industries Standard. The document contained incorrect docket numbers. This notice corrects these errors.

DATES: This correction is effective April 24, 2023.

FOR FURTHER INFORMATION CONTACT: Seleda Perryman, Directorate of Standards and Guidance, OSHA, U.S. Department of Labor; telephone: (202) 693-2222.

SUPPLEMENTARY INFORMATION:

I. Correction

In the Federal Register of April 3, 2023 (88 FR 19682), correct the Docket Number as described below.

1. On page 19682, in the third line, change the Docket Number to read:

[Docket No. OSHA-2010-0018]

2. On page 19682, in the paragraph titled “Addresses, subheading Instructions” change the Docket Number to read:

[Docket No. OSHA-2010-0018]

3. On page 19683, in the third column, in the first paragraph titled “1V. Public Participation,” change the Docket Number to read:

[Docket No. OSHA-2010-0018 (88 FR 19682)]

Authority and Signature

James S. Frederick, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on April 18, 2023.
James S. Frederick,
Deputy Assistant Secretary of Labor for Occupational Safety and Health.

[FR Doc. 2023-08592 Filed 4-21-23; 8:45 am]

BILLING CODE 4510-26-P